COMMISSION ON CIVIL RIGHTS

Agenda and Notice of Public Meeting of the New York Advisory Committee

Notice is hereby given, pursuant to the provisions of the rules and regulations of the U.S. Commission on Civil Rights, that a conference call of the New York Advisory Committee to the Commission will convene at 9 a.m. and adjourn at 10:30 p.m. on Wednesday, April 9, 2003. The purpose of the conference call is to plan a community forum on civil rights issues and post-9/11 law enforcement-community relations in New York.

This conference call available to the public through the following call-in number: 1-800-659-8296, access code: 16090481. Any interested member of the public may call this number and listen to the meeting. Persons with hearing impairments may also follow the proceedings by first calling the Federal Relay Service at 1-800-977-8339 and providing the Service with the conference call number and access code.

To ensure that the Commission secures an appropriate number of lines for the public, persons are asked to register by contacting Aonghas St. Hilaire of the Eastern Regional Office, 202-376-7533 (TDD 202-376-8116), by 4 p.m. on Tuesday, April 8, 2003.

The meeting will be conducted pursuant to the provisions of the rules and regulations of the Commission.

Dated in Washington, DC, March 26, 2003.
Ivy L. Davis,
Chief, Regional Programs Coordination Unit.

[FR Doc. 03-8481 Filed 4-7-03; 8:45 am]

BILLING CODE 6335-01-P